ENVIRONMENTAL PROTECTION AGENCY

[FRL-9907-90-OA]

Notification of a Public Teleconference of the Chartered Clean Air Scientific Advisory Committee (CASAC) and the CASAC Ozone Review Panel

AGENCY: Environmental Protection Agency (EPA).

ACTION: Notice.

SUMMARY: The Environmental Protection Agency (EPA) Science Advisory Board (SAB) Staff Office announces a public teleconference of the Chartered CASAC and the CASAC Ozone Review Panel to review and finalize CASAC draft letters on three EPA documents: (1) Health Risk and Exposure Assessment for Ozone—Second External Review Draft (January 2014); (2) Welfare Risk and Exposure Assessment for Ozone—Second External Review Draft (January 2014); and (3) Policy Assessment for the Review of the Ozone National Ambient Air Quality Standards—Second External Review Draft (January 2014).

DATES: The CASAC teleconference will be held on Wednesday, May 28, 2014 from 9:00 a.m. to 12:00 p.m. (Eastern Time).

Location: The public teleconference will be conducted by telephone only.

FOR FURTHER INFORMATION CONTACT: Any member of the public who wants further information concerning the public teleconference may contact Dr. Holly Stallworth, Designated Federal Officer (DFO), via telephone at (202) 564-2073 or email at stallworth.holly@epa.gov. General information concerning the CASAC can be found on the EPA Web site at http://www.epa.gov/casac.

SUPPLEMENTARY INFORMATION: The CASAC was established pursuant to the Clean Air Act (CAA) Amendments of 1977, codified at 42 U.S.C. 7409(d)(2), to review air quality criteria and NAAQS and recommend any new NAAQS and revisions of existing criteria and NAAQS as may be appropriate. The CASAC shall also provide advice, information, and recommendations to the Administrator on the scientific and technical aspects of issues related to the criteria for air quality standards, research related to air quality, sources of air pollution, and of adverse effects which may result from various strategies to attain and maintain air quality standards. The CASAC is a Federal Advisory Committee chartered under the Federal Advisory Committee Act (FACA), 5 U.S.C., App. 2. Section 109(d)(1) of the CAA requires that the Agency periodically review and revise, as appropriate, the air quality criteria and the NAAQS for the six “criteria” air pollutants, including ozone. EPA's draft documents for CASAC review were prepared as part of the agency's review of the National Ambient Air Quality Standards (NAAQS) for ozone.

Pursuant to FACA and EPA policy, notice is hereby given that the Chartered CASAC augmented with additional experts, known as the CASAC Ozone Review Panel, will hold a public teleconference to review and finalize its letters on the three EPA documents cited above. The CASAC and the CASAC Ozone Panel will comply with the provisions of FACA and all appropriate SAB Staff Office procedural policies.

Section 109(d)(1) of the CAA requires that the Agency periodically review and revise, as appropriate, the air quality criteria and the NAAQS for the six “criteria” air pollutants, including ozone. EPA is currently reviewing the primary (health-based) and secondary (welfare-based) NAAQS for ozone. The CASAC reviewed the first drafts of the EPA's Health Risk and Exposure Assessment for Ozone (First External Review Draft—Updated August 2012) and Welfare Risk and Exposure Assessment for Ozone (First External Review Draft—Updated August 2012). CASAC's comments on both of these documents are reported in a letter to the EPA Administrator, dated November 19, 2012 (EPA-CASAC-13-002). CASAC also reviewed the first draft of the EPA's Policy Assessment for the Review of the Ozone National Ambient Air Quality Standards (First External Review Draft—August 2012) as reported in a letter to the EPA Administrator, dated November 26, 2012 (EPA-CASAC-13-003).

Technical Contacts: Any technical questions concerning the Health Risk and Exposure Assessment for Ozone—Second External Review Draft (January 2014) or concerning the Welfare Risk and Exposure Assessment for Ozone—Second External Review Draft (January 2014) should be directed to Dr. Bryan Hubbell (hubbell.bryan@epa.gov). Any questions concerning the Policy Assessment for the Review of the Ozone National Ambient Air Quality Standards—Second External Review Draft (January 2014) should be directed to Ms. Susan Lyon Stone (stone.susan@epa.gov).

Availability of Meeting Materials: Prior to the meeting, the draft letters, agenda and other materials will be accessible through the calendar link on the blue navigation bar at http://www.epa.gov/casac/.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments for a federal advisory committee to consider pertaining to EPA's charge to the committee or review materials. Input from the public to the CASAC will have the most impact if it provides specific scientific, technical information or analysis or if it relates to the clarity or accuracy of the technical information for the CASAC's consideration. Members of the public wishing to provide comment should contact the DFO directly. Oral Statements: In general, individuals or groups requesting an oral presentation at a public meeting will be limited to three minutes. Interested parties should contact Dr. Stallworth, DFO, in writing (preferably via email) at the contact information noted above by May 19, 2014 to be placed on the list of public speakers for the teleconference. Written Statements: Written statements should be submitted to the DFO via email at the contact information noted above by May 19, 2014 for the teleconference so that the information may be made available to the CASAC Panel for their consideration. Written statements should be supplied in one of the following electronic formats: Adobe Acrobat PDF, MS Word, MS PowerPoint, or Rich Text files in IBM-PC/Windows 98/2000/XP format. It is the SAB Staff Office general policy to post public comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Dr. Holly Stallworth at (202) 564-2073 or stallworth.holly@epa.gov. To request accommodation of a disability, please contact Dr. Stallworth preferably at least ten days prior to the meeting to give EPA as much time as possible to process your request.

Dated: March 5, 2014.
Thomas H. Brennan,
Deputy Director, EPA Science Advisory Board Staff Office.

[FR Doc. 2014-05530 Filed 3-12-14; 8:45 am]

BILLING CODE 6560-50-P